DEPARTMENT OF ENERGY

Federal Energy Regulatory Commission

[Project No. 14593-000]

Wright Patman Power, LLC; Notice of Preliminary Permit Application Accepted for Filing and Soliciting Comments, Motions to Intervene, and Competing Applications

Correction

In notice document 2014-19040 beginning on page 47103 in the issue of Tuesday, August 12, 2014, make the following correction:

On page 47103, in the third column, the subject is corrected to read as set forth above.

[FR Doc. C1-2014-19040 Filed 8-21-14; 8:45 am]

BILLING CODE 1505-01-D